DEPARTMENT OF COMMERCE

International Trade Administration

[A-533-810]

Stainless Steel Bar From India: Partial Rescission of Antidumping Duty Administrative Review

AGENCY: Import Administration, International Trade Administration, Department of Commerce.

DATES: Effective Date: June 15, 2011.

FOR FURTHER INFORMATION CONTACT: Mahnaz Khan or Yasmin Nair, AD/CVD Operations, Office 1, Import Administration, U.S. Department of Commerce, 14th Street and Constitution Avenue, NW., Washington, DC 20230; telephone (202) 482-0914 and (202) 482-3813, respectively.

SUPPLEMENTARY INFORMATION: On February 1, 2011, the Department of Commerce (“Department”) issued a notice of opportunity to request an administrative review of the antidumping duty order on stainless steel bar from India for the period of review February 1, 2010, through January 31, 2011. See Antidumping or Countervailing Duty Order, Finding, or Suspended Investigation; Opportunity to Request Administrative Review, 76 FR 5559 (February 1, 2011). On February 28, 2011, Venus Wire Industries Pvt. Ltd (“Venus”) and Chandan Steel Limited (“Chandan”) requested administrative reviews of their entries. On February 28, 2011, the Department also received a request from domestic interested parties, Carpenter Technology Corp.; Electralloy Co., a division of G.O. Carlson, Inc.; Outokumpu Stainless Bar, Inc.; Universal Stainless & Alloy Products, Inc.; and Valbruna Slater Stainless, Inc. (collectively, “Petitioners”), for a review of Venus, Ambica Steels Limited (“Ambica”), Atlas Stainless Corporation (“Atlas Stainless”), Bhansali Bright Bars Pvt. Ltd. (“Bhansali”), FACOR Steels Limited (“Facor”), Grand Foundry Ltd. (“Grand Foundry”), India Steel Works Ltd. (“India Steel”), Meltroll Engineering Pvt. Ltd. (“Meltroll”), Mukand Ltd. (“Mukand”), Sindia Steels Limited (“Sindia Steels”), and Snowdrop Trading Pvt. Ltd. (“Snowdrop”), and their respective affiliates.

On March 31, 2011, the Department published the notice of initiation of this antidumping duty administrative review, covering Ambica, Atlas Stainless, Bhansali, Chandan, Facor, Grand Foundry, India Steel, Meltroll, Mukand, Sindia Steels, Snowdrop and Venus. See Initiation of Antidumping Duty Administrative Reviews, Requests for Revocation in Part, and Deferral of Administrative Review, 76 FR 17825 (March 31, 2011).

On April 26, 2011, Petitioners withdrew their request for a review for the following nine companies: Ambica, Atlas Stainless, Bhansali, Facor, Grand Foundry, India Steel, Meltroll, Sindia Steels, and Snowdrop.

Partial Rescission of Review

Pursuant to 19 CFR 351.213(d)(1), the Secretary will rescind an administrative review, in whole or in part, if the party who requested the review withdraws the request within 90 days of the date of publication of the notice of initiation of the requested review. Because Petitioners withdrew their request for review of Ambica, Atlas Stainless, Bhansali, Facor, Grand Foundry, India Steel, Meltroll, Sindia Steels, and Snowdrop within the 90-day period and no other party requested a review of these companies, we are rescinding this review with respect to these nine companies and their respective affiliates in accordance with 19 CFR 351.213(d)(1).

The Department intends to issue appropriate assessment instructions directly to U.S. Customs and Border Protection (“CBP”) 15 days after the publication of this notice. The Department will direct CBP to assess antidumping duties at the cash deposit rate in effect on the date of entry for entries of subject merchandise produced and/or exported by Ambica, Atlas Stainless, Bhansali, Facor, Grand Foundry, India Steel, Meltroll, Sindia Steels, and Snowdrop, during the period February 1, 2010, through January 31, 2011.

This notice is published in accordance with section 777(i)(1) of the Tariff Act of 1930, as amended, and 19 CFR 351.213(d)(4).

Dated: June 9, 2011.
Christian Marsh,
Deputy Assistant Secretary for Antidumping and Countervailing Duty Operations.

[FR Doc. 2011-14858 Filed 6-14-11; 8:45 am]

BILLING CODE 3510-DS-P